DEPARTMENT OF THE TREASURY

Office of Thrift Supervision

Submission for OMB Review; Comment Request

August 29, 2000.

The Office of Thrift Supervision (OTS) has submitted the following public information collection requirement(s) to OMB for review and clearance under the Paperwork Reduction Act of 1995, Public Law 104-13. Interested persons may obtain copies of the submission(s) by calling the OTS Clearance Officer listed. Send comments regarding this information collection to the OMB reviewer listed and to the OTS Clearance Officer, Office of Thrift Supervision, 1700 G Street, NW., Washington, DC 20552.

DATES: Submit written comments on or before October 5, 2000.

OMB Number: 1550-0084.

Form Number: OTS Forms 1586-A, 1586-I.

Type of Review: Revision of a currently approved collection.

Title: Interest Rate Risk Appeals.

Description: The OTS determines the interest rate risk component for savings associations based on information submitted as part of the Thrift Financial Report, OMB Control No. 1550-0023. The final interest rate risk regulation published on August 13, 1993 contained a provision for an appeal of this component. This information collection specifies the information necessary for the savings association's appeal.

Respondents: Savings and Loan Associations and Savings Banks.

Estimated Number of Responses: 11 responses.

Estimated Burden Hours Per Response: 16 minutes.

Frequency of Response: Quarterly.

Estimated Total Reporting Burden: 170 hours.

Clearance Officer: Ralph E. Maxwell, (202) 906-7740, Office of Thrift Supervision, 1700 G Street, NW., Washington, DC 20552.

OMB Reviewer: Alexander Hunt, (202) 395-7860, Office of Management and Budget, Room 10202, New Executive Office Building, Washington, DC 20503.

John E. Werner,
Director, Information and Management Services.

[FR Doc. 00-22637 Filed 9-1-00; 8:45 am]

BILLING CODE 6720-01-P